DEPARTMENT OF TRANSPORTATION

Federal Aviation Administration

14 CFR Part 39

[Docket No. FAA-2024-2718; Project Identifier MCAI-2024-00319-T; Amendment 39-23046; AD 2025-10-12]

RIN 2120-AA64

Airworthiness Directives; Airbus SAS Airplanes

AGENCY: Federal Aviation Administration (FAA), DOT.

ACTION: Final rule.

SUMMARY: The FAA is adopting a new airworthiness directive (AD) for all Airbus SAS Model A319-111, -112, -113, -114, -115, -131, -132, and -133 airplanes; Model A320 series airplanes; Model A321-211, -212, -213, -231, -232, -251N, -251NX, -252N, -252NX, -253N, -253NX, -253NY, -271N, -271NX, -272N, and -272NX airplanes; Airbus SAS Model A330-200 series airplanes; Model A330-300 series airplanes; Model A330-800 series airplanes; Model A330-900 series airplanes; Model A350-941 and -1041 airplanes; and Model A380-800 series airplanes. This AD was prompted by a report of corrosion and cracks on the broadband antenna adapter plate during an inspection. This AD requires repetitive general visual inspections of the broadband antenna adapter plate, skirt, vents, and attachment fittings, and applicable corrective actions, and limits the installation of affected parts under certain conditions. The FAA is issuing this AD to address the unsafe condition on these products.

DATES: This AD is effective July 2, 2025.

The Director of the Federal Register approved the incorporation by reference of a certain publication listed in this AD as of July 2, 2025.

ADDRESSES:

AD Docket: You may examine the AD docket at regulations.gov under Docket No. FAA-2024-2718; or in person at Docket Operations between 9 a.m. and 5 p.m., Monday through Friday, except Federal holidays. The AD docket contains this final rule, the mandatory continuing airworthiness information (MCAI), any comments received, and other information. The address for Docket Operations is U.S. Department of Transportation, Docket Operations, M-30, West Building Ground Floor, Room W12-140, 1200 New Jersey Avenue SE, Washington, DC 20590.

Material Incorporated by Reference:

• For European Union Aviation Safety Agency (EASA) material identified in this AD, contact EASA, Konrad-Adenauer-Ufer 3, 50668 Cologne, Germany; telephone +49 221 8999 000; email ADs@easa.europa.eu; website easa.europa.eu. You may find this material on the EASA website at ad.easa.europa.eu.

• You may view this material at the FAA, Airworthiness Products Section, Operational Safety Branch, 2200 South 216th St., Des Moines, WA. For information on the availability of this material at the FAA, call 206-231-3195. It is also available at regulations.gov under Docket No. FAA-2024-2718.

FOR FURTHER INFORMATION CONTACT: Thusa Dinh, Aviation Safety Engineer, FAA, 2200 South 216th St., Des Moines, WA 98198; phone: 562-627-5839; email: Thusa.T.Dinh@faa.gov.

SUPPLEMENTARY INFORMATION:

Background

The FAA issued a notice of proposed rulemaking (NPRM) to amend 14 CFR part 39 by adding an AD that would apply to all Airbus SAS Model A319-111, -112, -113, -114, -115, -131, -132, and -133 airplanes; Model A320 series airplanes; Model A321-211, -212, -213, -231, -232, -251N, -251NX, -252N, -252NX, -253N, -253NX, -253NY, -271N, -271NX, -272N, and -272NX airplanes; Airbus SAS Model A330-200 series airplanes; Model A330-300 series airplanes; Model A330-800 series airplanes; Model A330-900 series airplanes; Model A350-941 and -1041 airplanes; and Model A380-800 series airplanes. The NPRM published in the Federal Register on December 31, 2024 (89 FR 107063). The NPRM was prompted by AD 2024-0199, dated October 18, 2024 (EASA AD 2024-0199) (also referred to as the MCAI), issued by EASA, which is the Technical Agent for the Member States of the European Union. The MCAI states that corrosion and cracks were found on the broadband antenna adapter plate during an inspection. Further investigation determined that the broadband antenna adapter plate and skirt assembly-adapter are made of material susceptible to corrosion cracking, and that the recommended maintenance programs do not ensure timely detection of cracks and damage in this area.

In the NPRM, the FAA proposed to require repetitive general visual inspections of the broadband antenna adapter plate, skirt, vents, and attachment fittings and applicable corrective actions, and limit the installation of affected parts under certain conditions, as specified in EASA AD 2024-0199. The NPRM also proposed to require reporting of the inspection results after each inspection, as specified in EASA AD 2024-0199. The FAA is issuing this AD to address the corrosion and cracks on the broadband antenna adapter plate and skirt assembly-adapter. The unsafe condition, if not addressed, could lead to in-flight detachment of the radome, antenna, and affected parts (e.g., the broadband antenna adapter plate, skirt, vents and attachment fittings), which could impact the tail section of the airplane, possibly resulting in damage and reduced control of the airplane.

You may examine the MCAI in the AD docket at regulations.gov under Docket No. FAA-2024-2718.

Discussion of Final Airworthiness Directive

Comments

The FAA received a comment from an individual who supported the NPRM without change.

Clarification of Paragraph (h)(4) of the Proposed AD

The FAA revised paragraph (h)(4) of this AD to clarify the conditions that require corrective actions.

Conclusion

This product has been approved by the aviation authority of another country and is approved for operation in the United States. Pursuant to the FAA's bilateral agreement with this State of Design Authority, it has notified the FAA of the unsafe condition described in the MCAI referenced above. The FAA reviewed the relevant data, considered the comment received, and determined that air safety requires adopting this AD as proposed. Accordingly, the FAA is issuing this AD to address the unsafe condition on this product. Except for minor editorial changes, and any other changes described previously, this AD is adopted as proposed in the NPRM. None of the changes will increase the economic burden on any operator.

Material Incorporated by Reference Under 1 CFR Part 51

EASA AD 2024-0199 specifies procedures for repetitive general visual inspections for cracks and corrosion of the broadband antenna adapter plate, skirt, vents, and attachment fittings, and, depending on findings, corrective actions including repair or replacement of the affected parts. EASA AD 2024-0199 also limits the installation of affected parts under certain conditions and requires reporting of both positive and negative inspection results after the initial inspection and thereafter reporting the positive inspection results after each subsequent inspection. This material is reasonably available because the interested parties have access to it through their normal course of business or by the means identified in the ADDRESSES section.

Interim Action

The FAA considers that this AD is an interim action. The FAA anticipates that further AD action will follow.

Costs of Compliance

The FAA estimates that this AD affects 4 airplanes of U.S. registry. The FAA estimates the following costs to comply with this AD:

Estimated Costs for Required Actions
Labor cost | Parts cost | Cost per product | Cost on U.S. operators
Up to 61 work-hours × $85 per hour = $5,185 | $0 | Up to $5,185 | Up to $20,740.

The FAA estimates the following costs to do any on-condition action that would be required based on the results of any required actions. The FAA has no way of determining the number of aircraft that might need this on-condition action:

Estimated Costs of On-Condition Actions
Labor cost | Parts cost | Cost per product
50 work-hours × $85 per hour = $4,250 | $10,000 | $14,250

The FAA has received no definitive data on which to base the cost estimates for the repairs specified in this AD.

Paperwork Reduction Act

A federal agency may not conduct or sponsor, and a person is not required to respond to, nor shall a person be subject to a penalty for failure to comply with a collection of information subject to the requirements of the Paperwork Reduction Act unless that collection of information displays a currently valid OMB Control Number. The OMB Control Number for this information collection is 2120-0056. Public reporting for this collection of information is estimated to take approximately 1 hour per response, including the time for reviewing instructions, searching existing data sources, gathering and maintaining the data needed, and completing and reviewing the collection of information. All responses to this collection of information are mandatory. Send comments regarding this burden estimate or any other aspect of this collection of information, including suggestions for reducing this burden, to: Information Collection Clearance Officer, Federal Aviation Administration, 10101 Hillwood Parkway, Fort Worth, TX 76177-1524.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2025-10-12 Airbus SAS: Amendment 39-23046; Docket No. FAA-2024-2718; Project Identifier MCAI-2024-00319-T.

(a) Effective Date

This airworthiness directive (AD) is effective July 2, 2025.

(b) Affected ADs

None.

(c) Applicability

This AD applies to all Airbus SAS airplanes specified in paragraphs (c)(1) through (6) of this AD, certificated in any category.

(1) Model A319-111, -112, -113, -114, -115, -131, -132, and -133 airplanes.

(2) Model A320-211, -212, -214, -216, -231, -232, -233, -251N, -252N, -253N, -271N, -272N, and -273N airplanes.

(3) Model A321-211, -212, -213, -231, -232, -251N, -251NX, -252N, -252NX, -253N, -253NX, -253NY, -271N, -271NX, -272N, and -272NX airplanes.

(4) Model A330-201, -202, -203, -223, -243, -301, -302, -303, -321, -322, -323, -341, -342, -343, -841, and -941 airplanes.

(5) Model A350-941 and -1041 airplanes.

(6) Model A380-841, -842, and -861 airplanes.

(d) Subject

Air Transport Association (ATA) of America Code 53, Fuselage.

(e) Unsafe Condition

This AD was prompted by a report that found corrosion and cracks on the broadband antenna adapter plate during an inspection. The FAA is issuing this AD to address the corrosion and cracks on the broadband antenna adapter plate and skirt assembly-adapter. The unsafe condition, if not addressed, could lead to in-flight detachment of the radome, antenna, and affected parts, which could impact the tail section of the airplane, possibly resulting in damage and reduced control of the airplane.

(f) Compliance

Comply with this AD within the compliance times specified, unless already done.

(g) Requirements

Except as specified in paragraph (h) of this AD: Comply with all required actions and compliance times specified in, and in accordance with, European Union Aviation Safety Agency (EASA) AD 2024-0199, dated October 18, 2024 (EASA AD 2024-0199).

(h) Exceptions to EASA AD 2024-0199

(1) Where Appendix A in “the applicable SB” identified in EASA AD 2024-0199 specifies a compliance time “from SB publication date,” this AD requires using the effective date of this AD.

(2) Where EASA AD 2024-0199 specifies “14 June 2024 [the effective date of EASA AD 2024-0106],” this AD requires using the effective date of this AD.

(3) This AD does not adopt the “Remarks” section of EASA AD 2024-0199.

(4) Where paragraph (2) of EASA AD 2024-0199 specifies “any crack and/or corrosion are detected on an affected part”, this AD requires replacing that text with “any crack or corrosion is detected on an affected part”.

(5) Paragraph (4) of EASA AD 2024-0199 specifies to report inspection results to Airbus within a certain compliance time. For this AD, report inspection results at the applicable time specified in paragraph (h)(5)(i) or (ii) of this AD.

(i) If the inspection was done on or after the effective date of this AD: Submit the report within 30 days after the inspection.

(ii) If the inspection was done before the effective date of this AD: Submit the report within 30 days after the effective date of this AD.

(i) Additional AD Provisions

The following provisions also apply to this AD:

(1) Alternative Methods of Compliance (AMOCs): The Manager, AIR-520, Continued Operational Safety Branch, FAA, has the authority to approve AMOCs for this AD, if requested using the procedures found in 14 CFR 39.19. In accordance with 14 CFR 39.19, send your request to your principal inspector or responsible Flight Standards Office, as appropriate. If sending information directly to the manager of AIR-520, Continued Operational Safety Branch, send it to the attention of the person identified in paragraph (j) of this AD and email to: AMOC@faa.gov. Before using any approved AMOC, notify your appropriate principal inspector, or lacking a principal inspector, the manager of the responsible Flight Standards Office.

(2) Contacting the Manufacturer: For any requirement in this AD to obtain instructions from a manufacturer, the instructions must be accomplished using a method approved by the Manager, AIR-520, Continued Operational Safety Branch, FAA; or EASA; or Airbus SAS's EASA DOA. If approved by the DOA, the approval must include the DOA-authorized signature.

(3) Required for Compliance (RC): Except as required by paragraph (i)(2) of this AD, if any material contains procedures or tests that are identified as RC, those procedures and tests must be done to comply with this AD; any procedures or tests that are not identified as RC are recommended. Those procedures and tests that are not identified as RC may be deviated from using accepted methods in accordance with the operator's maintenance or inspection program without obtaining approval of an AMOC, provided the procedures and tests identified as RC can be done and the airplane can be put back in an airworthy condition. Any substitutions or changes to procedures or tests identified as RC require approval of an AMOC.

(j) Additional Information

For more information about this AD, contact Thusa Dinh, Aviation Safety Engineer, FAA, 2200 South 216th St., Des Moines, WA 98198; phone: 562-627-5839; email: Thusa.T.Dinh@faa.gov.

(k) Material Incorporated by Reference

(1) The Director of the Federal Register approved the incorporation by reference of the material listed in this paragraph under 5 U.S.C. 552(a) and 1 CFR part 51.

(2) You must use this material as applicable to do the actions required by this AD, unless this AD specifies otherwise.

(i) European Union Aviation Safety Agency (EASA) AD 2024-0199, dated October 18, 2024.

(ii) [Reserved]

(3) For EASA material identified in this AD, contact EASA, Konrad-Adenauer-Ufer 3, 50668 Cologne, Germany; telephone +49 221 8999 000; email ADs@easa.europa.eu; website easa.europa.eu. You may find this material on the EASA website at ad.easa.europa.eu.

(4) You may view this material at the FAA, Airworthiness Products Section, Operational Safety Branch, 2200 South 216th St., Des Moines, WA. For information on the availability of this material at the FAA, call 206-231-3195.

(5) You may view this material at the National Archives and Records Administration (NARA). For information on the availability of this material at NARA, visit www.archives.gov/federal-register/cfr/ibr-locations or email fr.inspection@nara.gov.

Issued on May 15, 2025.
Peter A. White,
Deputy Director, Integrated Certificate Management Division, Aircraft Certification Service.

[FR Doc. 2025-09515 Filed 5-27-25; 8:45 am]

BILLING CODE 4910-13-P